DEPARTMENT OF ENERGY

Office of Civilian Radioactive Waste Management; Announcement of Extension of Public Comment Period; Possible Recommendation of Yucca Mountain for Development as a Geologic Repository

AGENCY: Office of Civilian Radioactive Waste Management, Department of Energy.

ACTION: Notice of extension of public comment period; correction of an address for a hearing.

SUMMARY: The Department of Energy (the Department) announces the extension by 15 days of the public comment period concerning consideration of Yucca Mountain as a potential site for a geologic repository. The comment period, which was to end on September 20, 2001, will be extended to end on October 5, 2001. The Department also wishes to correct the address of a hearing in Amargosa Valley, Nevada.

DATES: Written comments must be received by October 5, 2001. DOE will consider comments after October 5, 2001 to the extent practicable. DOE requests one copy of the written comments.

ADDRESSES: Written comments should be addressed to Carol Hanlon, U.S. Department of Energy, Yucca Mountain Site Characterization Office, (M/S #025), P.O. Box 30307, North Las Vegas, Nevada 89036-0307. The Department also wishes to correct the address of a September 12, 2001, hearing in Amargosa Valley, Nevada. The correct address is: Longstreet Inn and Casino, Highway 373, Amargosa Valley, Nevada 89020.

FOR FURTHER INFORMATION CONTACT: U.S. Department of Energy, Office of Civilian Radioactive Waste Management, Yucca Mountain Site Characterization Office, (M/S #025), P.O. Box 30307, North Las Vegas, Nevada 89036-0307, 1-800-967-3477.

SUPPLEMENTARY INFORMATION: On May 7, 2001, the Department announced in the Federal Register (66 FR 23013-23016) the initiation of a public comment period on the Secretary's consideration of the Yucca Mountain site for recommendation as a spent nuclear fuel and high-level radioactive waste repository. In conjunction with the initiation of the comment period, the Department issued a report, the Yucca Mountain Science and Engineering Report (YMS&ER), summarizing the scientific and technical information compiled by the Department to date outlining the preliminary design and performance attributes of a potential geologic repository at the Yucca Mountain site. On August 21, 2001, the Department announced in the Federal Register (66 FR 43850-43851) the issuance of another report, the Preliminary Site Suitability Evaluation (PSSE). Each of these documents is intended to inform the public and facilitate public review and comment on a possible site recommendation. Also, in the August 21, 2001, Federal Register Notice the Department announced that the comment period would close on September 20, 2001. That comment period is now extended 15 days to October 5, 2001.

Issued in Washington, D.C. on September 10, 2001.
James H. Carlson,
Acting Director Office of Civilian Radioactive Waste Management.

[FR Doc. 01-23037 Filed 9-12-01; 8:45 am]

BILLING CODE 6450-01-P